DEPARTMENT OF COMMERCE

National Oceanic and Atmospheric Administration

RIN 0648-XG853

Marine Mammals; File No. 21476

AGENCY: National Marine Fisheries Service (NMFS), National Oceanic and Atmospheric Administration (NOAA), Commerce.

ACTION: Notice; receipt of application.

SUMMARY: Notice is hereby given that Lars Bejder, Ph.D., University of Hawaii at Manoa, 46-007 Lilipuna Road, Kaneohe, Hawaii 96744, has applied in due form for a permit to conduct scientific research on cetaceans.

DATES: Written, telefaxed, or email comments must be received on or before May 8, 2019.

ADDRESSES: The application and related documents are available for review by selecting “Records Open for Public Comment” from the “Features” box on the Applications and Permits for Protected Species (APPS) home page, https://apps.nmfs.noaa.gov, and then selecting File No. 21476 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Shasta McClenahan or Carrie Hubard, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The applicant requests a five-year research permit to study cetaceans to: (1) Understand fundamental biology, ecology, abundance, and habitat use; (2) analyze and develop quantitative methods to evaluate social structures and the fine scale behavior and energetics between individuals; and (3) facilitate impact assessment and mitigation procedures to lessen impact of human activities on cetaceans. Up to 32 species of marine mammals may be targeted including the following ESA listed species: blue (Balaenoptera musculus), bowhead (Balaena mysticetus), fin (B. physalus), Hawaiian insular false killer (Pseudorca crassidens), humpback (Megaptera novaeangliae), sei (B. borealis), sperm (Physeter macrocephalus), and Western North Pacific gray (Eschrichtius robustus) whales. Research may occur year-round in U.S. and international waters of the Pacific Ocean near Hawaii, Alaska, and U.S. territories. Research will include unmanned aerial surveys and vessel surveys for counts, photography, video recording, and photogrammetry. Vessel surveys may also include underwater photography and video recording, passive acoustic recording, biological sampling (skin and blubber biopsy, sloughed skin, exhaled air, and feces), and suction-cup tagging. See the application for complete numbers of animals requested by species and procedure.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: April 3, 2019.
Amy Sloan,
Acting Chief, Permits and Conservation Division, Office of Protected Resources, National Marine Fisheries Service.

[FR Doc. 2019-06871 Filed 4-5-19; 8:45 am]

BILLING CODE 3510-22-P